DEPARTMENT OF JUSTICE

Notice of Lodging of Consent Decree Under the Comprehensive Environmental Response, Compensation, and Liability Act

Notice is hereby given that on September 16, 2010, a proposed consent decree in United States v. Hercules Inc., et al., Civil Action No. 10-412, was lodged with the United States District Court for the Western District of Virginia.

In this action the United States sought the performance of response actions or the recovery of response costs incurred by the United States at the Kim-Stan Landfill Superfund Site (“Site”) near Selma, in Alleghany County, Virginia. The consent decree resolves the liability of Hercules Inc.; Honeywell International, Inc.; MeadWestvaco Corp.; and MeadWestvaco Virginia Corp; under Sections 106 and 107 of Comprehensive Environmental Response, Compensation, and Liability Act (“CERCLA”), 42 U.S.C. 9606 & 9607, with respect to the Site, subject to terms and conditions set forth in the consent decree. The proposed consent decree would require defendants to pay, collectively, $1.9 million in reimbursement of response costs incurred by the United States.

The Department of Justice will receive for a period of thirty (30) days from the date of this publication comments relating to the consent decree. Comments should be addressed to the Assistant Attorney General, Environment and Natural Resources Division, and either e-mailed to pubcomment-ees.enrd@usdoj.gov or mailed to P.O. Box 7611, U.S. Department of Justice, Washington, DC 20044-7611, and should refer to United States v. Hercules Inc., D.J. Ref. 90-11-2-06916/2.

The consent decree may be examined on the following Department of Justice Web site, http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.00 (25 cents per page reproduction cost) payable to the U.S. Treasury or, if by e-mail or fax, forward a check in that amount to the Consent Decree Library at the stated address.

Maureen Katz,
Assistant Chief, Environmental Enforcement Section, Environment and Natural Resources Division.

[FR Doc. 2010-23602 Filed 9-21-10; 8:45 am]

BILLING CODE 4410-15-P